POSTAL SERVICE

Board of Governors; Sunshine Act Meeting

DATES AND TIMES: Tuesday, November 15, 2011, at 10 a.m.; and Wednesday, November 16, at 8 a.m.

PLACE: Washington, DC, at U.S. Postal Service Headquarters, 475 L'Enfant Plaza, SW., in the Benjamin Franklin Room.

STATUS: Tuesday, November 15 at 10 a.m.—Closed; Tuesday, November 15, at 1:30 p.m.—Open; November 15 at 4:30 p.m.—Closed; and Wednesday, November 16 at 8 a.m.—Closed

MATTERS TO BE CONSIDERED:

Tuesday, November 15 at 10 a.m. (Closed)

1. Strategic Issues.

2. Financial Matters.

Tuesday, November 15 at 1:30 p.m. (Open)

1. Approval of Minutes of the Previous Meetings.

2. Remarks of the Chairman of the Board Louis J. Giuliano.

3. Remarks of the Postmaster General and CEO Patrick R. Donahoe.

4. Committee Reports.

5. Consideration of FY 2011 10K, Financial Statements and Annual Report.

6. Consideration of Fiscal Year 2011 Comprehensive Statement and Annual Performance Plan.

7. Consideration of Fiscal Year 2012 Integrated Financial Plan.

8. Consideration of Final Fiscal Year 2013 Appropriation Request.

9. Quarterly Report on Service Performance.

10. Tentative Agenda for the December 13, 2011, Meeting.

11. Election of Chairman and Vice Chairman of the Board of Governors.

Tuesday, November 15 at 4:30 p.m. (Closed—Continuation)

3. Executive Session

Wednesday, November 16 at 8 a.m. (Closed—Continuation)

4. Strategic Matters

5. Pricing

6. Administrative Items

7. Executive Session

CONTACT PERSON FOR MORE INFORMATION: Julie S. Moore, Secretary of the Board, U.S. Postal Service, 475 L'Enfant Plaza, SW., Washington, DC 20260-1000. Telephone (202) 268-4800.

Julie S. Moore,
Secretary.

[FR Doc. 2011-28466 Filed 10-31-11; 11:15 am]

BILLING CODE 7710-12-P